NUCLEAR REGULATORY COMMISSION

[NRC-2011-0118]

Final Memorandum of Understanding Between the U.S. Nuclear Regulatory Commission and the U.S. Department of Homeland Security on Chemical Facility Anti-Terrorism Standards

AGENCY: Nuclear Regulatory Commission.

ACTION: Notice of availability.

FOR FURTHER INFORMATION CONTACT: R. Clyde Ragland, Project Manager (Security), Fuel Cycle and Transportation Security Branch, Division of Security Policy, Office of Nuclear Security and Incident Response, U.S. Nuclear Regulatory Commission, Washington, DC 20555. Telephone: 301-415-7008; fax number: 301-415-6382; e-mail: clyde.ragland@nrc.gov.

SUPPLEMENTARY INFORMATION:

I. Introduction

This notice is to advise the public of the issuance of a Final Memorandum of Understanding (MOU) between the U.S. Nuclear Regulatory Commission (NRC) and the Department of Homeland Security (DHS). The MOU delineates clear lines of responsibility between the parties, based on their legal authorities, for the security of high-risk chemical facilities subject to DHS regulation and for the security of chemicals at facilities subject to NRC regulation. The MOU describes the parties' relationship in identifying which facilities are subject to NRC regulation and thus are, in whole or in part, exempt from the chemical facility security regulations issued by DHS.

II. Effective Date

This MOU is effective March 31, 2011.

III. Further Information

Documents related to this action are available online at the NRC's Library at http://www.nrc.gov/reading-rm/adams.html. From this site, you can access the NRC's Agencywide Documents Access and Management System (ADAMS), which provides text and image files of NRC's public documents. The ADAMS accession number for the MOU is ML111010355. If you do not have access to ADAMS or if there are problems in accessing the documents located in ADAMS, contact the NRC Public Document Room (PDR) Reference staff at 1-800-397-4209, 301-415-4737 or by e-mail to: pdr.resource@nrc.gov. These documents may also be viewed electronically on the public computers located at the NRC's PDR, Room, O1-F21, One White Flint North, 11555 Rockville Pike, Rockville, Maryland 20852. The PDR reproduction contractor will copy documents for a fee.

Dated at Rockville, Maryland, this 25th day of May 2011.
For the Nuclear Regulatory Commission.
Peter Prescott,
Acting Branch Chief, Fuel Cycle and Transportation Security Branch, Division of Security Policy, Office of Nuclear Security and Incident Response.

[FR Doc. 2011-13676 Filed 6-1-11; 8:45 am]

BILLING CODE 7590-01-P